ENVIRONMENTAL PROTECTION AGENCY

[FRL-9908-59-OA]

National Environmental Education Advisory Council

AGENCY: Environmental Protection Agency (EPA).

ACTION: Notice of meeting.

SUMMARY: Under the Federal Advisory Committee Act, Environmental Protection Agency (EPA) gives notice of a meeting of the National Environmental Education Advisory Council (NEEAC). The NEEAC was created by Congress to advise, consult with, and make recommendations to the Administrator of the Environmental Protection Agency (EPA) on matters related to activities, functions and policies of EPA under the National Environmental Education Act (Act). 20 U.S.C. 5508(b). The purpose of these meeting(s) is to discuss specific topics of relevance for consideration by the council in order to provide advice and insights to the Agency on environmental education.

DATES: The National Environmental Education Advisory Council will hold public meetings on Thursday April 10th, 2014 and Friday April 11, 2014 from 9:00 a.m. until 5:00 p.m. Mountain Standard Time. The meetings will be held at 1595 Wynkoop Street, Denver, CO 80202 in the Columbine Room.

FOR FURTHER INFORMATION CONTACT: Javier Araujo, Designated Federal Officer, araujo.javier@epa.gov, 202-564-2642, U.S. EPA, Office of Environmental Education, William Jefferson Clinton North, Room 1426, 1200 Pennsylvania Avenue NW., Washington, DC 20460.

SUPPLEMENTARY INFORMATION: Members of the public wishing to gain access to the meeting, make brief oral comments, or provide a written statement to the NEEAC must contact Javier Araujo, Designated Federal Officer, at araujo.javier@epa.gov or 202-564-2642 by 10 business days prior to each regularly scheduled meeting.

Meeting Access: For information on access or services for individuals with disabilities or to request accommodations please contact Javier Araujo at araujo.javier@epa.gov or 202-564-2642, preferably at least 10 days prior to the meeting, to give EPA as much time as possible to process your request.

Javier Araujo,
Designated Federal Officer.
Brian Bond,
Senior Advisor for Public Engagement, Office of the Administrator.

[FR Doc. 2014-06363 Filed 3-21-14; 8:45 am]

BILLING CODE 6560-50-P